COMMITTEE FOR PURCHASE FROM PEOPLE WHO ARE BLIND OR SEVERELY DISABLED

Procurement List; Additions—Correction

AGENCY: Committee for Purchase From People Who Are Blind or Severely Disabled.

ACTION: Correction of Notice 76 FR 47564-47565.

SUMMARY: This action corrects a Service Type that was incorrectly published in the, August 5, 2011 Federal Register notice, 76 FR 47564-47565.

DATES: Effective Date: 9/5/2011.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or e-mail CMTEFedReg@AbilityOne.gov.

Service Type/Location:

Contact Center Services, Human Resources Command,1600 Spearhead Division Avenue, Fort Knox, KY.

NPAs: InspiriTec, Inc., Philadelphia, PA (Prime Contractor), Employment Source, Inc., Fayetteville, NC (Subcontractor).

Contracting Activity: Dept of the Army, W6QM FT KNOX CONTR CTR, Fort Knox, KY.

Patricia Briscoe,
Deputy Director, Business Operations, Pricing and Information Management.

[FR Doc. 2011-20560 Filed 8-11-11; 8:45 am]

BILLING CODE 6353-01-P